UNITED STATES POSTAL SERVICE BOARD OF GOVERNORS

Sunshine Act Meeting

Date and Time: Wednesday, November 14, 2007, at 12:30 p.m.; and Thursday, November 15, 2007, at 8:30 a.m. and 10:30 a.m.

Place: Washington, DC, at U.S. Postal Service Headquarters, 475 L'Enfant Plaza, SW., in the Benjamin Franklin Room.

Status: November 14—12:30 p.m.—Closed; November 15—8:30 a.m.—Open; November 15—10:30 a.m.—Closed.

Matters to be Considered

Wednesday, November 14 at 12:30 p.m. (Closed)

1. Strategic Issues.

2. Audit and Finance Committee Report and Review of FY 2007 Year-End Financial Statements.

3. Financial Update.

4. Rate Case Update.

5. Postal Regulatory Commission Opinion and Recommended Decision in Negotiated Service Agreement with Bank of America, Docket No. MC2007-1.

6. Labor Negotiations Update.

7. Personnel Matters and Compensation Issues.

8. Governors' Executive Session—Discussion of prior agenda items and Board Governance.

Thursday, November 15 at 8:30 a.m. (Open)

1. Minutes of Previous Meeting, September 24-26, 2007.

2. Remarks of the Chairman and Vice Chairman of the Board.

3. Remarks of the Postmaster general and CEO Jack Potter.

4. Committee Reports.

5. Quarterly Report on Service Performance.

6. Consideration of Fiscal Year 2007 Audited Financial Statements.

7. Tentative Agenda for the December 10-11, 2007, meeting in Washington, DC.

Thursday, November 15 at 10:30 a.m. (Closed)—if needed.

1. Continuation of Wednesday's closed session agenda.

Contact person for More Information: Wendy A. Hocking, Secretary of the Board, U.S. Postal Service, 475 L'Enfant Plaza, SW., Washington, DC 20260-1000. Telephone (202) 268-4800.

Wendy A. Hocking,
Secretary.

[FR Doc. 07-5605 Filed 11-6-07; 1:38 pm]

BILLING CODE 7710-12-M